DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Paperwork Submissions Under the Coastal Zone Management Act Federal Consistency Requirements.

Form Number(s): None.

OMB Approval Number: 0648-0411.

Type of Request: Regular submission.

Burden Hours: 35,799.

Number of Respondents: 2,334.

Average Hours per Response: Consistency certifications or determinations and state responses to them, 8 hours; applications for Federal assistance and state responses, 2 hours; state requests for review of unlisted activities, 4 hours; public notice requirements, 1 hour; requests for remedial action or supplemental review, 6 hours; listing notice, 1 hour; interstate listing, 30 hours; requests for mediation, 2 hours; appeals, 210 hours.

Needs and Uses: These paperwork submissions are required by the Coastal Zone Management Act (CZMA), 16 U.S.C. 1456, and by NOAA to provide a reasonable, efficient and predictable means of complying with the CZMA requirements. The information will be used by coastal States with federally-approved Coastal Zone Management Programs to determine if Federal agency activities, Federal license or permit activities, and Federal assistance activities that affect a State's coastal zone are consistent with the States' programs.

Affected Public: State, local or tribal government; individuals or households; business or for-profit organizations.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 22, 2006.
Gwellnar Banks,
Management Analyst, Office of the Chief Information Officer.

[FR Doc. E6-10143 Filed 6-27-06; 8:45 am]

BILLING CODE 3510-22-P